DEPARTMENT OF THE TREASURY

Agency Information Collection Activities; Submission for OMB Review; Comment Request; Financial Recordkeeping and Reporting of Currency and Report of Foreign Bank and Financial Accounts

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before May 28, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Financial Crimes Enforcement Network (FinCEN)

Title: Financial Recordkeeping and Reporting of Currency and Report of Foreign Bank and Financial Accounts.

OMB Control Number: 1506-0009.

Type of Review: Extension without change of a currently approved collection.

Description: The Bank Secrecy Act authorizes Treasury to require financial institutions and individuals to keep records and file reports that the Treasury determines have a high degree of usefulness in criminal, tax, or regulatory matters, or to protect against international terrorism. The information collected assist Federal, State, and local law enforcement in the identification, investigation, and prosecution of individuals involved in a variety of financial crimes.

Form: FinCEN 114.

Affected Public: Businesses or other for-profits, Individuals and Households.

Estimated Number of Respondents: 1,076,145.

Frequency of Response: Annually.

Estimated Total Number of Annual Responses: 1,076,145.

Estimated Time per Response: 1 hour.

Estimated Total Annual Burden Hours: 1,076,145.

Authority: 44 U.S.C. 3501 et seq.

Dated: April 22, 2019.
Spencer W. Clark,
Treasury PRA Clearance Officer.

[FR Doc. 2019-08358 Filed 4-24-19; 8:45 am]

BILLING CODE 4810-02-P